DEPARTMENT OF COMMERCE

International Trade Administration

Implementation of the Findings of the WTO Panel in US—Zeroing (EC): Notice of Determinations Under Section 129 of the Uruguay Round Agreements Act and Revocations and Partial Revocations of Certain Antidumping Duty Orders

AGENCY: Import Administration, International Trade Administration, Department of Commerce.

SUMMARY: On April 23, 2007, the U.S. Trade Representative instructed the Department of Commerce (the Department) to implement its findings under section 129 of the Uruguay Round Agreements Act (URAA) regarding the offsetting of dumped sales with non-dumped sales in investigations involving average-to-average transactions. The Department issued its findings on April 9, 2007, regarding eleven investigations challenged by the European Communities before the World Trade Organization. The Department is now implementing those findings.

DATES: The effective date of these determinations is April 23, 2007.

FOR FURTHER INFORMATION CONTACT: Daniel O'Brien, William Kovatch, or Michael Rill, Import Administration, International Trade Administration, U.S. Department of Commerce, 14th Street and Constitution Ave., NW., Washington, DC 20230; telephone: (202) 482-1376, (202) 482-5052, or (202) 482-3058, respectively.

SUPPLEMENTARY INFORMATION:

Background

On February 22, 2007, the Department initiated twelve proceedings under section 129 of the URAA to implement the WTO dispute settlement panel's report in United States—Laws, Regulations and Methodology for Calculating Dumping Margins (“Zeroing”) (WT/DS294). In each proceeding, the Department recalculated the weighted-average dumping margin from the following antidumping investigations, applying the calculation methodology described in Antidumping Proceedings: Calculation of the Weighted-Average Dumping Margin During an Antidumping Investigation; Final Modification; see 71 FR 77722 (December 27, 2006):

1. Certain Hot-Rolled Carbon Steel from the Netherlands (A-421-807).

2. Stainless Steel Bar From France (A-427-820).

3. Stainless Steel Bar From Germany (A-428-830).

4. Stainless Steel Bar From Italy (A-475-829).

5. Stainless Steel Bar From the United Kingdom (A-412-822).

6. Stainless Steel Wire Rod From Sweden (A-401-806).

7. Stainless Steel Wire Rod From Spain (A-469-807).

8. Stainless Steel Wire Rod From Italy (A-475-820).

9. Certain Stainless Steel Plate in Coils from Belgium (A-423-808).

10. Stainless Steel Sheet and Strip in Coils from Italy (A-475-824).

11. Certain Cut-to-Length Carbon-quality Steel Plate From Italy (A-475-826).

12. Certain Pasta From Italy (A-475-818).

On February 26, 2007, the Department issued its preliminary results and requested comments. After receiving comments and rebuttal comments from the interested parties, the Department issued its Final Results for the Section 129 Determinations in eleven of the twelve proceedings on April 9, 2007.¹

¹ With respect to Stainless Steel Sheet and Strip in Coils from Italy (A-475-824), one interested party made allegations of computational errors in calculating the weighted-average dumping margin. The Department found that there was a reasonable basis to investigate the allegations further, and postponed its decision in that proceeding in order to place additional information on the administrative record, and allow interested parties additional time to comment.

On April 20, 2007, consistent with section 129(b)(3) of the URAA, the U.S. Trade Representative held consultations with the Department and the appropriate congressional committees with respect to these determinations. On April 23, 2007, in accordance with sections 129(b)(4) and 129(c)(1)(B) of the URAA, the U.S. Trade Representative directed the Department to implement these determinations.

Nature of the Proceedings

Section 129 of the URAA governs the nature and effect of determinations issued by the Department to implement findings by WTO dispute settlement panels and the Appellate Body. Specifically, section 129(b)(2) provides that “notwithstanding any provision of the Tariff Act of 1930,” within 180 days of a written request from the U.S. Trade Representative, the Department shall issue a determination that would render its actions not inconsistent with an adverse finding of a WTO panel or the Appellate Body. See 19 U.S.C. 3538(b)(2). The Statement of Administrative Action, U.R.A.A., H. Doc. 316, Vol. 1, 103d Cong. (1994) (SAA), variously refers to such a determination by the Department as a “new,” “second,” and “different” determination. See SAA at 1025, 1027. After consulting with the Department and the appropriate congressional committees, the U.S. Trade Representative may direct the Department to implement, in whole or in part, the new determination made under section 129. See 19 U.S.C. 3538(b)(4). Pursuant to section 129(c), the new determination shall apply with respect to unliquidated entries of the subject merchandise that are entered, or withdrawn from warehouse, for consumption on or after the date on which the U.S. Trade Representative directs the Department to implement the new determination. See 19 U.S.C. 3538(c). The new determination is subject to judicial review separate and apart from judicial review of the Department's original determination. See 19 U.S.C. 1516a(a)(2)(B)(vii).

Analysis of Comments Received

The issues raised in the case and rebuttal briefs submitted by interested parties to these proceedings are addressed in the Issues and Decision Memorandum for the Final Results of the Section 129 Determinations, from Stephen J. Claeys to David M. Spooner, dated April 9, 2007 (Issues and Decision Memorandum), which is hereby adopted by this notice. The Issues and Decisions Memorandum is on file in the Central Records Unit (CRU), room B-099 of the Department of Commerce main building and can be accessed directly at http://ia.ita.doc.gov/frn. The paper copy and electronic version of the Issues and Decisions Memorandum are identical in content. A list of the issues addressed in the Issues and Decisions Memorandum is appended to this notice.

Final Antidumping Margins

The recalculated margins, unchanged from the Preliminary Results for all cases, except the investigation of Stainless Steel Sheet and Strip in Coils from Italy, are as follows:

(1) Certain Hot-Rolled Carbon Steel From the Netherlands

• The margin for Corus, the sole respondent, decreases from 2.59 percent to zero. Since Corus was the only respondent in the investigation, we are now revoking this order effective April 23, 2007 (the effective date).

(2) Stainless Steel Bar From France

• The margin for UGITECH decreases from 3.9 percent to zero. We are now revoking this order for UGITECH effective April 23, 2007 (the effective date).

• The margin for Aubert and Duval S.A. was based on total AFA. This margin does not change as a result of this proceeding.

• Since there are no non-AFA, above de minimis margins remaining, pursuant to Department practice, the all others rate is based on a simple average of the zero margins and the AFA margins. Therefore, the all-others rate changes from 3.9 percent to 35.92 percent.

(3) Stainless Steel Bar From Germany

• The margin for BGH decreases from 13.63 percent to 2.59 percent.

• The margin for Einsal decreases from 4.17 percent to de minimis. We are now revoking this order for Einsal effective April 23, 2007 (the effective date).

• The margin for Edelstahl Witten-Krefeld GmbH decreases from 15.40 percent to 10.82 percent.

• The margin for Krupp Edelstahlprofile GmbH decreases from 32.32 percent to 31.25 percent.

• The all-others rate changes from 16.96 percent to 15.16 percent.

(4) Stainless Steel Bar From Italy

• The margin for Acciaiera Valbruna S.p.A. decreases from 2.50 percent to zero. We are now revoking this order for Acciaiera Valbruna S.p.A. effective April 23, 2007 (the effective date).

• The margin for Acciaiera Foroni S.p.A. decreases from 7.07 percent to zero. We are now revoking this order for Acciaiera Foroni S.p.A. effective April 23, 2007 (the effective date).

• Trafilerie Bedini S.r.l. was excluded from the order and that does not change as a result of this proceeding.

• The margin for Cogne Acciai Speciali Srl was based on total AFA. This margin does not change as a result of this proceeding.

• The margin for Rodacciai S.p.A. decreases from 3.83 percent to zero. We are now revoking this order for Rodacciai S.p.A. effective April 23, 2007 (the effective date).

• Since there are no non-AFA above de minimis margins remaining, pursuant to Department practice, the all-others rate is based on a simple average of the zero margins and the AFA margins. Therefore, the all-others rate changes from 3.81 percent to 6.60 percent.

(5) Stainless Steel Bar From the United Kingdom

• The margin for Corus Engineering Steels Ltd. decreases from 4.48 percent to zero. We are now revoking this order for Corus Engineering Steels Ltd. effective April 23, 2007 (the effective date).

• Firth Rixon Special Steels Ltd. and Crownridge Stainless Steel Ltd.'s/Valkia Ltd.'s margins were based on total AFA. These margins do not change as a result of this proceeding.

• Since there are no non-AFA above de minimis margins remaining, pursuant to Department practice, the all-others rate is based on a simple average of the zero margins and the AFA margins. Therefore, the all-others rate changes from 4.48 percent to 83.85 percent.

(6) Stainless Steel Wire Rod From Sweden

• The margin for Fagersta Stainless AB decreases from 5.71 percent to zero. Since Fagersta Stainless AB was the only respondent in the investigation, we are now revoking this order effective April 23, 2007 (the effective date).

(7) Stainless Steel Wire Rod From Spain

• The margin for Roldan S.A., the sole respondent, decreases from 4.76 percent to 2.71 percent.

• The all-others rate changes from 4.76 percent to 2.71 percent.

(8) Stainless Steel Wire Rod From Italy

• The margin for Cogne Acciai Speciali S.r.l. decreases from 12.73 percent to 11.25 percent.

• Acciaiera Valbruna S.p.A. was excluded from the order and that does not change as a result of this proceeding.

• The all-others rate changes from 12.73 percent to 11.25 percent.

(9) Stainless Steel Plate in Coils From Belgium

• The margin for Ugine & ALZ Belgium (formerly ALZ N.V.), the sole respondent, decreases from 9.84 percent to 8.54 percent.

• The all-others rate changes from 9.84 percent to 8.54 percent.

(10) Certain Cut-To-Length Carbon-Quality Steel Plate Products From Italy

• The margin for Palini and Bertoli S.p.A. decreases from 7.85 percent to 7.64 percent.

• ILVA S.p.A. was excluded from the order and that does not change as a result of this proceeding.

• The all-others rate changes from 7.85 percent to 7.64 percent.

(11) Certain Pasta From Italy

• The margin for Arrighi S.p.A. Industrie Alimentari decreases from 21.34 percent to 20.84 percent.

• The margin for Liguori Pastificio Dal 1820 S.p.A. decreases from 12.41 percent to 12.14 percent.

• The margin for Pastificio Fratelli Pagani S.p.A. decreases from 18.30 percent to 18.23 percent.

• The margin for La Molisana Industrie Alimentari S.p.A. remains at 14.78 percent based on this recalculation.

• De Matteis Agroalimentare S.p.A. and Delverde S.r.l. were excluded from the order and that does not change as a result of this proceeding.

• F.lli De Cecco de Filippo Fara San Martino S.p.A.'s margin was based on total AFA. This margin does not change as a result of this proceeding.

• The all-others rate changes from 12.09 percent to 16.51 percent. We note that Delverde S.r.l.'s margin in the investigation was a component of the all-others rate. However, since Delverde S.r.l. was later revoked from the order as a result of litigation relating to the investigation, its margin is no longer a component of the all others rate. We note also that, for cash deposit purposes, we deduct from the margin of dumping any export subsidies. On that basis, the new cash deposit rate that will be established for all others is 15.45 percent.

Revocations, Cash Deposits and Continuation of the Suspension of Liquidation

On April 23, 2007, in accordance with sections 129(b)(4) and 129(c)(1)(B) of the URAA, the U.S. Trade Representative, after consulting with the Department and Congress, directed the Department to implement these determinations.

With respect to Certain Hot-Rolled Carbon Steel from the Netherlands and Stainless Steel Wire Rod from Sweden, we will instruct U.S. Customs and Border Protection (CBP) to liquidate without regard to antidumping duties entries of the subject merchandise entered, or withdrawn from warehouse, for consumption on or after April 23, 2007, (the effective date), and to discontinue collection of cash deposits of antidumping duties.

With respect to Stainless Steel Bar from France, we will instruct CBP to liquidate without regard to antidumping duties entries of the subject merchandise manufactured and exported by UGITECH, entered, or withdrawn from warehouse, for consumption on or after April 23, 2007, (the effective date), and to discontinue collection of cash deposits of antidumping duties. We will instruct CBP to continue to suspend liquidation of all entries of subject merchandise from all other exporters or producers. CBP shall continue to require a cash deposit equal to the estimated amount by which the normal value exceeds the U.S. price. The suspension of liquidation instructions will remain in effect until further notice. The Section 129 Determination all-others rate will be the new cash deposit rate for all exporters of subject merchandise for whom the Department has not calculated an individual rate.

With respect to Stainless Steel Bar from Germany, we will instruct CBP to liquidate without regard to antidumping duties entries of the subject merchandise manufactured and exported by Einsal, entered, or withdrawn from warehouse, for consumption on or after April 23, 2007, (the effective date), and to discontinue collection of cash deposits of antidumping duties. We will instruct CBP to continue to suspend liquidation of all entries of subject merchandise from all other exporters or producers. CBP shall continue to require a cash deposit equal to the estimated amount by which the normal value exceeds the U.S. price. The suspension of liquidation instructions will remain in effect until further notice. The Section 129 Determination all-others rate will be the new cash deposit rate for all exporters of subject merchandise for whom the Department has not calculated an individual rate.

With respect to Stainless Steel Bar from Italy, we will instruct CBP to liquidate without regard to antidumping duties entries of the subject merchandise manufactured and exported by Acciaiera Valbruna S.p.A., Acciaiera Foroni S.p.A. and Rodacciai S.p.A., entered, or withdrawn from warehouse, for consumption on or after April 23, 2007, (the effective date), and to discontinue collection of cash deposits of antidumping duties. We will instruct CBP to continue to suspend liquidation of all entries of subject merchandise from all other exporters or producers. CBP shall continue to require a cash deposit equal to the estimated amount by which the normal value exceeds the U.S. price. The suspension of liquidation instructions will remain in effect until further notice. The Section 129 Determination all-others rate will be the new cash deposit rate for all exporters of subject merchandise for whom the Department has not calculated an individual rate.

With respect to Stainless Steel Bar from the United Kingdom, we will instruct CBP to liquidate without regard to antidumping duties entries of the subject merchandise manufactured and exported by Corus Engineering Steels Ltd., entered, or withdrawn from warehouse, for consumption on or after April 23, 2007, (the effective date), and to discontinue collection of cash deposits of antidumping duties. We will instruct CBP to continue to suspend liquidation of all entries of subject merchandise from all other exporters or producers. CBP shall continue to require a cash deposit equal to the estimated amount by which the normal value exceeds the U.S. price. The suspension of liquidation instructions will remain in effect until further notice. The Section 129 Determination all-others rate will be the new cash deposit rate for all exporters of subject merchandise for whom the Department has not calculated an individual rate.

With respect to Stainless Steel Wire Rod from Spain, we will instruct CBP to continue to suspend liquidation of all entries of subject merchandise from all exporters or producers. CBP shall continue to require a cash deposit equal to the estimated amount by which the normal value exceeds the U.S. price. The suspension of liquidation instructions will remain in effect until further notice. The Section 129 Determination all-others rate will be the new cash deposit rate for all exporters of subject merchandise for whom the Department has not calculated an individual rate.

With respect to Stainless Steel Wire Rod from Italy, we will instruct CBP to continue to suspend liquidation of all entries of subject merchandise from all exporters or producers. CBP shall continue to require a cash deposit equal to the estimated amount by which the normal value exceeds the U.S. price. The suspension of liquidation instructions will remain in effect until further notice. The Section 129 Determination all-others rate will be the new cash deposit rate for all exporters of subject merchandise for whom the Department has not calculated an individual rate.

With respect to Stainless Steel Plate in Coils from Belgium, we will instruct CBP to continue to suspend liquidation of all entries of subject merchandise from all exporters or producers. CBP shall continue to require a cash deposit equal to the estimated amount by which the normal value exceeds the U.S. price. The suspension of liquidation instructions will remain in effect until further notice. The Section 129 Determination all-others rate will be the new cash deposit rate for all exporters of subject merchandise for whom the Department has not calculated an individual rate.

With respect to Certain Cut-To-Length Carbon-Quality Steel Plate Products from Italy, we will instruct CBP to continue to suspend liquidation of all entries of subject merchandise from all exporters or producers. CBP shall continue to require a cash deposit equal to the estimated amount by which the normal value exceeds the U.S. price. The suspension of liquidation instructions will remain in effect until further notice. The Section 129 Determination all-others rate will be the new cash deposit rate for all exporters of subject merchandise for whom the Department has not calculated an individual rate.

With respect to Certain Pasta from Italy, we will instruct CBP to continue to suspend liquidation of all entries of subject merchandise from all exporters or producers. CBP shall continue to require a cash deposit equal to the estimated amount by which the normal value exceeds the U.S. price. The suspension of liquidation instructions will remain in effect until further notice. The Section 129 Determination all-others rate will be the new cash deposit rate for all exporters of subject merchandise for whom the Department has not calculated an individual rate.

The cash deposit rates will remain unchanged for those companies that we are not revoking and whose cash deposit rates since the original investigation have been superseded by administrative reviews.

These Section 129 Determinations are issued and published in accordance with section 129(c)(2)(A) of the URAA.

Dated: April 30, 2007.
David M. Spooner,
Assistant Secretary for Import Administration.

Appendix I

Issues Raised in the Issues and Decision Memorandum

Comment 1: Whether the Department Has the Authority to Implement the WTO Appellate Body Decision

Comment 2: Targeted Dumping

Comment 3: Treatment of Unliquidated Entries

Comment 4: Calculation of All-Others Rate

Comment 5: Clerical Error Allegation in the Investigation of Stainless Steel Sheet and Strip in Coils from Italy

Comment 6: Clarification of Valbruna Exporter Name

Comment 7: The Department's Briefing Schedule

[FR Doc. 07-2212 Filed 5-3-07; 8:45 am]

BILLING CODE 3510-DS-P